NUCLEAR REGULATORY COMMISSION

Advisory Committee on the Medical Uses of Isotopes: Meeting Notice

AGENCY: U.S. Nuclear Regulatory Commission.

ACTION: Notice of Meeting.

SUMMARY: The U.S. Nuclear Regulatory Commission (NRC) will convene a teleconference meeting of the Advisory Committee on the Medical Uses of Isotopes (ACMUI) on January 5, 2011, to discuss: (1) The ACMUI reporting structure; (2) rulemaking and implementation guidance for physical protection of byproduct material; and (3) the impacts of the draft safety culture policy statement for medical licensees. Contingent upon the outcome of the January 5, 2011, the NRC will also convene a second teleconference of the ACMUI on January 12, 2011, to further discuss the ACMUI reporting structure. A copy of the agenda for each meeting will be available at http://www.nrc.gov/reading-rm/doc-collections/acmui/agenda or by contacting Ms. Ashley Cockerham using the information below.

DATES: The first teleconference meeting will be held on Wednesday, January 5, 2011, 1 p.m. to 3 p.m. Eastern Standard Time (EST). The second teleconference meeting will be held on Wednesday, January 12, 2011, from 1 p.m. to 2 p.m. EST.

Public Participation: Any member of the public who wishes to participate in the teleconference discussions should contact Ms. Cockerham using the contact information below.

Contact Information: Ashley M. Cockerham, e-mail: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received five business days prior to the meeting and must pertain to the topic(s) on the agenda for the meeting.

2. Questions and comments from members of the public will be permitted during the meetings, at the discretion of the Chairman.

3. The transcripts will be available on the ACMUI's Web site (http://www.nrc.gov/reading-rm/doc-collections/acmui/tr/) approximately 30 calendar days following the meetings. Meeting summaries will be available approximately 30 business days following the meetings.

The meetings will be held in accordance with the Atomic Energy Act of 1954, as amended (primarily Section 161a); the Federal Advisory Committee Act (5 U.S.C. App); and the Commission's regulations in Title 10, U.S. Code of Federal Regulations, Part 7.

Dated: December 15, 2010.
Andrew L. Bates,
Advisory Committee Management Officer.

[FR Doc. 2010-32009 Filed 12-20-10; 8:45 am]

BILLING CODE 7590-01-P